DEPARTMENT OF LABOR

Employment and Training Administration

Solicitation for Grant Applications (SGA); High Growth Job Training Initiative Grants for the Advanced Manufacturing Industry Correction

AGENCY: Employment and Training Administration (ETA), Labor.

ACTION: Notice; correction.

SUMMARY: The Employment and Training Administration published a document in the Federal Register on June 6, concerning the availability of grant funds for new and innovative approaches to meeting the workforce challenges of the advanced manufacturing industry under the President's High Growth Job Training Initiative. This correction is to give notice of an upcoming webinar, to correct the Catalog of Federal Assistance number and to extend the closing date to August 1, 2006.

FOR FURTHER INFORMATION CONTACT: Melissa Abdullah, Grants Management Specialist, Division of Federal Assistance, (202) 693-3346.

Notice

There will be a webinar held on June 29, 2006 at 2 p.m. Eastern Time titled ETA Competency Initiative: A Competency Model Framework for Advanced Manufacturing. Go to http://www.workforce3one.org/public/skillbuilding/webinar_info.cfm?id=102 to register for this event. A recorded version of the webinar will be posted on this site one day after the event. Questions related to the information presented in the webinar should be directed to Melissa Abdullah, Grants Management Specialist, Division of Federal Assistance, 202-693-3346.

Corrections

In the Federal Register of June 6, 2006, in FR Volume 71, Number 108:

—On page 32559, in the second column, is corrected to read:

Catalog of Federal Assistance number: 17.268.

—On page 32566, in the third column, is corrected to read:

Submission Date, Times and Addresses: The closing date for receipt of applications under this announcement is August 1, 2006.

Signed at Washington, DC, this 23rd day of June, 2006.
Eric D. Luetkenhaus,
Grant Officer.

[FR Doc. E6-10362 Filed 6-30-06; 8:45 am]

BILLING CODE 4510-30-P